DEPARTMENT OF TRANSPORTATION

Coast Guard

33 CFR Part 117

[CGD08-01-020]

Drawbridge Operating Regulation; Lake Pontchartrain, LA

AGENCY: Coast Guard, DOT.

ACTION: Notice of temporary deviation from regulations.

SUMMARY: The Commander, Eighth Coast Guard District, has issued a temporary deviation from the regulation governing the operation of the north bascule span of the US 11 bridge across Lake Pontchartrain between New Orleans and Slidell, Orleans and St. Tammany Parishes, Louisiana. This deviation allows the north bascule span to remain closed to navigation from 6 a.m. until noon and from 1 p.m. until 7 p.m. on August 6, 7, and 8, 2001. This temporary deviation was issued to allow for the installation of a new submarine cable underneath the north bascule span of the bridge. At all other times during this period, only the north leaf of the north bascule span will open for the passage of vessel traffic.

DATES: This deviation is effective from 6 a.m. on Monday, August 6, 2001 through 7 p.m. on Wednesday, August 8, 2001.

ADDRESSES: Unless otherwise indicated, documents referred to in this notice are available for inspection or copying at the office of the Eighth Coast Guard District, Bridge Administration Branch, Commander (ob), Eighth Coast Guard District, 501 Magazine Street, New Orleans, Louisiana, 70130-3396. The Bridge Administration Branch of the Eighth Coast Guard District maintains the public docket for this temporary deviation.

FOR FURTHER INFORMATION CONTACT: David Frank, Bridge Administration Branch, telephone (504) 589-2965.

SUPPLEMENTARY INFORMATION: The north bascule span of the US 11 bridge across Lake Pontchartrain, between New Orleans and Slidell, has a vertical clearance of 13 feet above mean high water in the closed-to-navigation position and unlimited in the open-to-navigation position. Navigation on the waterway consists of tugs with tows, fishing vessels, sailing vessels, and other recreational craft. The Louisiana Department of Transportation and Development requested a temporary deviation from the normal operation of the drawbridge in order to accommodate the installation of a new submarine cable beneath the north bascule span. During the closure period, traffic will be able to pass through the north leaf of the span between noon and 1 p.m. and from 7 p.m. until 6 a.m. Emergency repairs to the south leaf of the north bascule span are ongoing and will be completed by 4 p.m. on August 30, 2001. Scaffolding beneath the south leaf has reduced the vertical clearance by approximately two feet.

This deviation allows the north channel bascule span of the US 11 bridge across Lake Pontchartrain, between New Orleans and Slidell, Orleans and St. Tammany Parishes, Louisiana, to be maintained in the closed-to-navigation position from 6 a.m. until noon and from 1 p.m. until 7 p.m. on August 6, 7, 8, 2001.

Dated: July 12, 2001.
Roy J. Casto,
Rear Admiral, U.S. Coast Guard Commander, Eighth Coast Guard District.

[FR Doc. 01-18397 Filed 7-23-01; 8:45 am]

BILLING CODE 4910-15-U